DEPARTMENT OF TRANSPORTATION

Federal Aviation Administration

Notice Before Waiver With Respect to Land at the Montgomery County Airpark, Gaithersburg, MD

AGENCY: Federal Aviation Administration (FAA), DOT.

ACTION: Notice of intent of waiver with respect to land.

SUMMARY: The FAA is publishing notice of proposed release of approximately one quarter (0.25) of an acre of land acquired with local funds at the Montgomery County Airpark to William C. Rickman Construction Company, Inc. The airport will receive 0.35 of an acre owned by Rickman located in the primary surface in exchange in addition to protective easements and other considerations that will complement anticipated airport development. There are no impacts to the Airport and the land is not needed for airport development as shown on the Airport Layout Plan.

DATES: Comments must be received on or before May 10, 2007.

ADDRESSES: Comments on this application may be mailed or delivered in triplicate to the FAA at the following address: Terry J. Page, Manager, FAA Washington Airports District Office, 23723 Air Freight Lane, Suite 210, Dulles, VA 20166.

In addition, one copy of any comments submitted to the FAA must be mailed or delivered to Mr. Keith Miller, Executive Director, at the following address: Mr. Keith Miller, Executive Director, Montgomery County Revenue Authority, 101 Monroe Street, Suite 410, Rockville, Maryland 20850.

FOR FURTHER INFORMATION CONTACT: Mr. Terry Page, Manager, Washington Airports District Office, 23723 Air Freight Lane, Suite 210, Dulles, VA 20166; telephone (703) 661-1354, fax (703) 661-1370, e-mail Terry.Page@faa.gov.

SUPPLEMENTARY INFORMATION: On April 5, 2000, new authorizing legislation became effective. That bill, the Wendell H. Ford Aviation investment and Reform Act for the 21st Century, Pub. L. 10-181 (Apr. 5, 2000; 114 Stat. 61) (AIR 21) requires that a 30-day public notice must be provided before the Secretary may waive any condition imposed on an interest in surplus property.

Dated: Issued in Chantilly, Virginia on March 30, 2007.
Terry J. Page,
Manager, Washington Airports District Office, Eastern Region.

[FR Doc. 07-1747 Filed 4-9-07; 8:45 am]

BILLING CODE 4910-13-M